DEPARTMENT OF DEFENSE

Department of the Air Force

[No. USAF-2006-0006]

Proposed Collection; Comment Request

AGENCY: Department of the Air Force, Air Force Office of Scientific Research (AFOSR), Department of Defense.

ACTION: Notice.

In compliance with Section 3506(c)(2)(A) of the Paperwork Reduction Act of 1995, the Department of the Air Force, Air Force Office of Scientific Research announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 21, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submission available for public viewing on the Internet at http://www.regulations.gov as they are received without change, including any personal identifiers or contact information.

FOR FURTHER INFORMATION CONTACT: To request more information on this proposed information collection or to obtain a copy of the proposal and associated collection instruments, please write to the Air Force Office of Scientific Research, ATTN: AFOSR/PD, 875 North Randolph Street, Suite 325, Room 3112, Arlington, VA 22203-1768. Requests may be e-mailed to NDSEG@afosr.af.mil, or call AFOSR/PID at 703-696-7323. Information on this proposed collection may be downloaded from http://www.afosr.mil/pages/afrpgamf.htm or http://www.asee.org/resources/fellowship/ndseg.

Title and OMB Number: DoD National Defense Science and Engineering Graduate (NDSEG) Fellowships Program; OMB number 0701-TBD.

Needs and Uses: The on-line, electronic application provides information necessary for evaluation and selection of fellowships. The NDSEG fellowships allow recipients to pursue their graduate studies at whichever United States institution they choose to attend. Respondents are students enrolled in doctoral programs in science and engineering desiring to complete their education. Failure to respond renders the student ineligible for a fellowship.

Affected Public: Individuals or households.

Annual Burden Hours: 33,600.

Number of Respondents: 2,800.

Responses per Respondent: 1.

Average Burden per Response: 12 hours.

Frequency: Annually.

SUPPLEMENTARY INFORMATION:

Summary of Information Collection

Support of Science, Mathematics, and Engineering Education, 10 U.S.C. 2191, states that “the Secretary of Defense shall prescribe regulations providing for the award of fellowships to citizens and nationals of the United States who agree to pursue graduate degrees in science, engineering or other fields of study designated by the Secretary (of Defense) to be of priority interest to the DoD.” * * * “a fellowship awarded pursuant to regulations prescribed under this * * * shall be known as a National Defense Science and Engineering Graduate Fellowship.” “* * * Recipients shall be selected on the basis of a nationwide competition.”

The DoD is committed to increasing the number and quality of the nation's scientists and engineers. The goal is to provide the United States with talented, doctorally trained American men and women who will lead state of the art research projects in disciplines having the greatest payoff to national defense requirements. Approximately 180-200 3-year fellowships are anticipated to be awarded in the fields of Aeronautical and Astronautical Engineering, Biosciences, Chemical Engineering, Chemistry, Civil Engineering, Cognitive, Neural, and Behavioral Sciences, Computer and Computational Sciences, Electrical Engineering, Geosciences, Material Science and Engineering, Mathematics, Mechanical Engineering, Naval Architecture and Ocean Engineering, Oceanography, and Physics.

The on-line, electronic application provides information necessary for evaluation and selection of fellowships. The NDSEG fellowships allow recipients to pursue their graduate studies at whichever United States institution they choose to attend. Respondents are students enrolled in doctoral programs in science and engineering desiring to complete their education.

Dated: May 10, 2006.
Patricia L. Toppings,
Alternate OSD Federal Register Liaison Officer, Department of Defense.

[FR Doc. 06-4716 Filed 5-19-06; 8:45 am]

BILLING CODE 5001-06-M